COMMITTEE FOR PURCHASE FROM PEOPLE WHO ARE BLIND OR SEVERELY DISABLED

Procurement List Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 10/4/2010.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 7/2/2010 (75 FR 38467-38468) and 7/9/2010 (75 FR 39497-39499), the Committee for Purchase From People Who Are Blind or Severely Disabled published Notices of proposed additions to the Procurement List.

Comments were received from a nonprofit agency that was not selected as the designated nonprofit agency to perform the Janitorial and Grounds Service at the Alan Bible Federal Building and Lloyd George U.S. Courthouse in Las Vegas, NV. In its comments, the nonprofit agency questions the fairness of the process used by the central nonprofit agency to identify the nonprofit agency to perform this project.

The Committee for Purchase From People Who Are Blind or Severely Disabled (Committee) operates pursuant to statutory and regulatory requirements. In accordance with these requirements, the Committee has designated central nonprofit agencies to perform certain duties, including facilitating the distribution of Government orders for goods and services among qualified nonprofit agencies. The central nonprofit agencies have established order distribution procedures which include dispute resolution processes. Accordingly, in this instance, if a qualified nonprofit agency questions the fairness of the order distribution process conducted by the central nonprofit agency, they must utilize the established dispute resolution process.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: 7220-00-NIB-0367—Disposable Urinal Floor Mat.

NSN: 7220-00-NIB-0368—Disposable Toilet Floor Mat.

NPA: NewView Oklahoma, Inc., Oklahoma City, OK.

Contracting Activity: GSA/Federal Acquisition Service, Fort Worth, TX.

Coverage: B-List for the Broad Government Requirement as aggregated by the General Services Administration.

NSN: 7520-01-377-9534—Cord Connector/Rotator, Telephone, Twisstop, Black.

NSN: 7520-00-NIB-2084—Shoulder Rest, Telephone, Black, Softak II.

NSN: 7520-00-NIB-2085—Shoulder Rest, Telephone, Black.

Coverage: A-List for the Total Government Requirement as aggregated by the General Services Administration.

NSN: 7520-01-253-1283—Shoulder Rest, Telephone, Beige, 2¼″ W × 7″ L.

NSN: 7520-01-377-9533—Cord Connector/Rotator, Telephone, Twisstop, Clear.

Coverage: B-List for the Broad Government Requirement as aggregated by the General Services Administration.

NPA: Bestwork Industries for the Blind, Inc., Runnemede, NJ.

Contracting Activity: GSA/Federal Acquisition Service, New York, NY.

NSN: 7910-00-NIB-0236—Surface Prep pad 13.”

NSN: 7910-00-NIB-0240—Surface Prep pad 17.”

NSN: 7910-00-NIB-0243—Surface Prep pad 20.”

NPA: Beacon Lighthouse, Inc., Wichita Falls, TX.

Contracting Activity: Department of Veteran Affairs, National Acquisition Center, Hines, IL.

Coverage: C-List for 100% of the requirement of the Department of Veterans Affairs as aggregated by the Department of Veterans Affairs National Acquisition Center, Hines, IL.

NSN: 8415-00-NIB-0210—Pants, United States Coast Guard Running Suit, Size XS.

NSN: 8415-00-NIB-0778—Pants, United States Coast Guard Running Suit, Size SM.

NSN: 8415-00-NIB-0779—Pants, United States Coast Guard Running Suit, Size MD.

NSN: 8415-00-NIB-0780—Pants, United States Coast Guard Running Suit, Size LG.

NSN: 8415-00-NIB-0781—Pants, United States Coast Guard Running Suit, Size X-LG.

NSN: 8415-00-NIB-0782—Pants, United States Coast Guard Running Suit, Size XX-LG.

NPA: Association for the Blind & Visually Impaired & Goodwill Ind. of Greater Rochester, Rochester, NY.

Contracting Activity: Department of Homeland Security, U.S. Coast Guard, Washington, DC.

Coverage: C-List for 100% of the requirements for the U.S. Coast Guard as aggregated by the U.S. Coast Guard.

Services

Service Type/Locations: Janitorial & Grounds Service, Alan Bible Federal Building, 600 Las Vegas Blvd South, Las Vegas, NV.

Lloyd George U.S. Courthouse, 333 Las Vegas Blvd South, Las Vegas, NV.

NPA: Opportunity Village Association for Retarded Citizens, Las Vegas, NV.

Contracting Activity: General Services Administration, Public Buildings Service, Acquisition, San Francisco, CA.

Service Type/Location: Hospital Housekeeping Service, Martin Army Community Hospital, 9200 Martin Loop, Fort Benning, GA.

NPA: Job Options, Inc., San Diego, CA.

Contracting Activity: Dept of the Army, XU W40M Southeast Regional Contracting Office, Fort Gordon, GA.

Barry S. Lineback,
Director, Business Operations.

[FR Doc. 2010-22054 Filed 9-2-10; 8:45 am]

BILLING CODE 6353-01-P